DEPARTMENT OF TRANSPORTATION

Federal Transit Administration

Over-the-Road Bus Accessibility Program Announcement of Project Selections

AGENCY: Federal Transit Administration, DOT.

ACTION: Notice.

SUMMARY: The U.S. Department of Transportation (DOT) Federal Transit Administration (FTA) announces the selection of projects to be funded under Fiscal Year (FY) 2006 appropriations for the Over-the-Road Bus (OTRB) Accessibility Program, authorized by the Transportation Equity Act for the 21st Century (TEA-21). The OTRB Accessibility Program makes funds available to private operators of over-the-road buses to help finance the incremental capital and training costs of complying with DOT's over-the-road bus accessibility regulation.

FOR FURTHER INFORMATION CONTACT: The appropriate FTA Regional Administrator for grant-specific issues; or Blenda Younger, Office of Program Management, 202-366-2053, for general information about the OTRB Program.

SUPPLEMENTARY INFORMATION: A total of $7.4 million was made available for the program in FY 2006: $5.6 million for intercity fixed-route providers and $1.8 million for all other providers, such as commuter, charter, and tour operators. A total of 127 applicants requested $35.1 million: $17.3 million was requested by intercity fixed-route providers, and $17.8 million was requested by all other providers. Project selections were made on a discretionary basis, based on each applicant's responsiveness to statutory project selection criteria, fleet size, and level of funding received in previous years. Because of the high demand for the funds available, most successful applicants received less funding than they requested, and applicants with weaker applications were not selected for funding. The selected projects will provide funding for the incremental cost of adding lifts to 94 new vehicles, retrofitting 118 vehicles, and $70,765 for training. Each of the following 91 awardees, as well as the 36 applicants who were not selected for funding, will receive a letter that explains how funding decisions were made.

Award Amount
Operator | City/state | Intercity fixed-route | Other | Total | Project ID
Region I:
Arrow Line | Springfield, MA |  | $40,000 | $40,000 | D2006-OTRB-0001
Bonanza Bus Lines | Springfield, MA |  |  | 88,381 | D2006-OTRB-0002
Concord Coach Lines, Inc | Concord, NH | 90,600 |  | 90,600 | D2006-OTRB-0003
Northeast Charter & Tour Co. Inc | Lewiston, ME |  | 43,599 | 43,599 | D2006-OTRB-0004
Peter Pan Bus Lines | Springfield, MA | 144,755 |  | 144,755 | D2006-OTRB-0005
Plymouth & Brockton | Plymouth, MA | 55,620 |  | 55,620 | D2006-OTRB-0006
Premier Coach Company, Inc | Colchester, VT |  | 28,405 | 28,405 | D2006-OTRB-0007
Region II:
Adirondack Trailways | Hurley, NY | 157,500 |  | 157,500 | D2006-OTRB-0008
Classic Tours | Lakewood, NJ |  | 29,170 | 29,170 | D2006-OTRB-0009
Hampton Jitney, Inc | Southampton, NY | 30,137 |  | 30,137 | D2006-OTRB-0010
J&R Tours, Ltd | Mount Vernon, NY |  | 25,200 | 25,200 | D2006-OTRB-0011
Lion Trailways | Rio Grande, NJ | 58,000 |  | 58,000 | D2006-OTRB-0012
Region III:
Anderson Coach & Travel | Greenville, PA |  | 33,389 | 33,389 | D2006-OTRB-0013
Butler Motor Transit | Butler, PA |  | 39,000 | 39,000 | D2006-OTRB-0014
Capitol Trailways | Harrisburg, PA | 110,900 |  | 110,900 | D2006-OTRB-0015
David Thomas Tours, Inc | Philadelphia, PA | 26,200 |  | 26,200 | D2006-OTRB-0016
Dillon's Bus Service, Inc | Millersville, MD | 23,500 |  | 23,500 | D2006-OTRB-0017
Edenfield Stages | Greensburg, PA | 41,000 |  | 41,000 | D2006-OTRB-0018
Fullington Trailways | Clearfield, PA | 86,230 |  | 86,230 | D2006-OTRB-0019
Fun Tours, Inc | Virginia Beach, VA |  | 33,692 | 33,692 | D2006-OTRB-0020
Gold Line, Inc | Tuxedo, MD | 162,000 |  | 162,000 | D2006-OTRB-0021
Keller Transportation, Inc | Waldorf, MD | 97,730 |  | 97,730 | D2006-OTRB-0022
Lodestar Bus Lines, Inc | Johnstown, PA |  | 28,000 | 28,000 | D2006-OTRB-0023
Martz Trailways | Wilkes-Barre, PA | 137,800 |  | 137,800 | D2006-OTRB-0024
National Coach Works of Virginia | Fredericksburg, VA |  | 40,000 | 40,000 | D2006-OTRB-0025
Sun Coach Lines, LLC | McKeesport, PA |  | 26,499 | 26,499 | D2006-OTRB-0026
Trans-Bridge Lines | Bethlehem, PA | 130,950 |  | 130,950 | D2006-OTRB-0027
Region IV:
American Charters, LTD | Charlotte, NC |  | 23,500 | 23,500 | D2006-OTRB-0028
American Coach of Atlanta | Norcross, GA |  | 23,500 | 23,500 | D2006-OTRB-0029
American Coach Lines Jacksonville | Jacksonville, FL |  | 26,200 | 26,200 | D2006-OTRB-0030
American Coach Lines Orlando | Orlando, FL |  | 22,500 | 22,500 | D2006-OTRB-0031
Angelic Tours and Shuttles | Fayetteville, NC |  | 40,000 | 40,000 | D2006-OTRB-0032
Burke International Tours, Inc | Maiden, NC |  | 25,392 | 25,392 | D2006-OTRB-0033
Capital Trailways | Montgomery, AL |  | 25,492 | 25,492 | D2006-OTRB-0034
First Class Coach Company, Inc | St. Petersburg, FL |  | 32,500 | 32,500 | D2006-OTRB-0035
Florida Cruise Connection, Inc | Sarasota, FL |  | 21,250 | 21,250 | D2006-OTRB-0036
KTC Transportation Co., Inc | Charlotte, NC |  | 41,000 | 41,000 | D2006-OTRB-0037
Magic Carpet Ride | Vero Beach, FL |  | 24,901 | 24,901 | D2006-OTRB-0038
Midnight Sun Tours, Inc | Lake Worth, FL |  | 46,000 | 46,000 | D2006-OTRB-0039
Morgan & Sons Week-End Tours | Greensboro, NC |  | 41,000 | 41,000 | D2006-OTRB-0040
Southern Coach Company | Durham, NC |  | 29,800 | 29,800 | D2006-OTRB-0041
Starkville Trailways, Inc | Starkville, MS |  | 46,856 | 46,856 | D2006-OTRB-0042
Region V:
Able Trek Tours, Inc | Reedsburg, WI |  | 15,007 | 15,007 | D2006-OTRB-0043
Colonial Coach Lines, Inc | Mt. Prospect, IL | 146,000 |  | 146,000 | D2006-OTRB-0044
Indian Trails, Inc | Owosso, MI |  | 26,100 | 26,100 | D2006-OTRB-0045
Jefferson Lines | Minneapolis, MN | 77,600 |  | 77,600 | D2006-OTRB-0046
K&K Bus Lines, Inc | Montgomery, IN |  | 25,000 | 25,000 | D2006-OTRB-0047
Lakefront Lines, Inc | Brook Park, OH | 75,600 |  | 75,600 | D2006-OTRB-0048
Minnesota Coaches, Inc | Hastings, MN |  | 30,760 | 30,760 | D2006-OTRB-0049
Prairie Trailways | Chicago, IL |  | 25,300 | 25,300 | D2006-OTRB-0050
Ready Bus Line | La Crescent, MN |  | 25,962 | 25,962 | D2006-OTRB-0051
Riteway Bus Service, Inc | Richfield, WI | 98,577 |  | 98,577 | D2006-OTRB-0052
Wisconsin Coach Lines | Waukesha, WI | 90,000 |  | 90,000 | D2006-OTRB-0053
Region VI:
All Aboard America | Santa Fe, NM | 79,300 |  | 79,300 | D2006-OTRB-0054
Americanos USA, LLC | Dallas, TX |  | 37,800 | 37,800 | D2006-OTRB-0055
Arrow Trailways of Texas | Killeen, TX |  | 23,462 | 23,462 | D2006-OTRB-0056
Crucero USA, LLC | Dallas, TX | 113,400 |  | 113,400 | D2006-OTRB-0057
El Expreso Bus Company, Inc | Houston, TX | 49,600 |  | 49,600 | D2006-OTRB-0058
El Paso—Los Angeles Limousine Express, Inc | El Paso, TX | 107,865 |  | 107,865 | D2006-OTRB-0059
Greyhound Lines, Inc | Dallas, TX | 2,803,950 |  | 2,803,950 | D2006-OTRB-0060
Gulf Coast Transportation | Houston, TX |  | 42,310 | 42,310 | D2006-OTRB-0061
Kerrville Bus Co. | San Antonio, TX | 48,600 |  | 48,600 | D2006-OTRB-0062
Star Shuttle & Charter | San Antonio, TX |  | 40,118 | 40,118 | D2006-OTRB-0063
TNM&O | Lubbock, TX | 83,700 |  | 83,700 | D2006-OTRB-0064
Region VII:
Arrow Stage Lines | Norfolk, NE |  | 28,000 | 28,000 | D2006-OTRB-0065
B&B Tour & Charter, LLC | Kansas City, MO |  | 35,000 | 35,000 | D2006-OTRB-0066
Burlington Trailways | W. Burlington, IA | 83,985 |  | 83,985 | D2006-OTRB-0067
Region VIII:
Ramblin Express, Inc | Colorado Springs, CO |  | 26,200 | 26,200 | D2006-OTRB-0068
Region IX
Alan Waxler Group, Inc | Las Vegas, NV |  |  | 40,547 | D2006-OTRB-0069
All West Coachlines, LLC | Sacramento, CA |  | 39,155 | 39,155 | D2006-OTRB-0070
Amador Stage Lines | Sacramento, CA | 90,020 |  | 90,020 | D2006-OTRB-0071
Celebrity Coaches of America | Las Vegas, NV |  | 42,990 | 42,990 | D2006-OTRB-0072
Chinese Hosts, Inc | Las Vegas, NV |  | 38,837 | 38,837 | D2006-OTRB-0073
Coach USA Elko, LLC | Elko, NV | 40,950 |  | 40,950 | D2006-OTRB-0074
Coach USA Los Angeles | Long Beach, CA |  | 39,655 | 39,655 | D2006-OTRB-0075
El Camino Charter Lines, Inc | San Francisco, CA |  | 32,500 | 32,500 | D2006-OTRB-0076
Franciscan Lines | San Francisco, CA |  | 36,955 | 36,955 | D2006-OTRB-0077
Grand Tours | Las Vegas, NV |  | 38,500 | 38,500 | D2006-OTRB-0078
H&L Charter Co., Inc | Rancho Cucamonga, CA |  | 26,200 | 26,200 | D2006-OTRB-0079
LD Tours, LLC | Las Vegas, NV |  | 42,000 | 42,000 | D2006-OTRB-0080
Polynesian Adventure Tours, Inc | Honolulu, HI |  | 21,932 | 21,932 | D2006-OTRB-0081
RDH Transportation Services, Inc | Honolulu, HI |  | 18,451 | 18,451 | D2006-OTRB-0082
Ryan's Express Transportation | N. Las Vegas, NV |  | 31,000 | 31,000 | D2006-OTRB-0083
Silverado Stages, Inc | San Luis Obispo, CA | 102,300 |  | 102,300 | D2006-OTRB-0084
Solazteca | Los Angeles, CA |  | 33,400 | 33,400 | D2006-OTRB-0085
Transportes Intercalifornias | Los Angeles, CA |  | 41,000 | 41,000 | D2006-OTRB-0086
Triple J Tours, Inc | Las Vegas, NV |  | 21,995 | 21,995 | D2006-OTRB-0087
Via Adventures, Inc | Merced, CA |  | 28,706 | 28,706 | D2006-OTRB-0088
Region X:
Northwestern Trailways | Spokane, WA | 36,000 |  | 36,000 | D2006-OTRB-0089
Premier Alaska Tours, Inc | Anchorage, AK |  | 25,700 | 25,700 | D2006-OTRB-0090
Wheatland Express, Inc | Pullman, WA |  | 38,863 | 38,863 | D2006-OTRB-0091
Total |  | 5,568,750 | 1,856,250 | 7,425,000 |

Eligible project costs may be incurred by awardees prior to final grant approval. The incremental capital cost for adding wheelchair lift equipment to any new vehicles delivered on or after June 9, 1998, the effective date of Transportation Equity Act for the 21st Century (TEA-21), is eligible for funding under the OTRB Accessibility Program.

Applicants selected for funding may be contacted by FTA regional offices if additional information is needed before grants are made. Awards are processed through FTA's electronic grants management system, TEAM-WEB, and the project ID listed will be used to track the obligation of funds for the projects selected. The grant applications will be sent to the U.S. Department of Labor (DOL) for certification under labor protection requirements pursuant to 49 U.S.C. 5333(b). After referring applications to affected employees represented by a labor organization, DOL will issue a certification to FTA. Terms and conditions of the certification will be incorporated in the FTA grant agreement under the new guidelines, replacing those in 29 CFR Part 215. Please see Amendment to Section 5333(b), Guidelines to Carry Out New Programs Authorized by the Transportation Equity Act for the 21st Century (TEA-21); Final Rule (64 FR 40990, July 28, 1999).

Issued in Washington, DC, this 28th day of November, 2006.
James S. Simpson,
Administrator.

[FR Doc. E6-20426 Filed 12-1-06; 8:45 am]

BILLING CODE 4910-57-P